DEPARTMENT OF COMMERCE

Bureau of Industry and Security

15 CFR Part 700

[Docket Number: 041026293-5031-02]

RIN 0694-AD35

Defense Priorities and Allocations System (DPAS): Electronic Transmission of Reasons for Rejecting Rated Orders

AGENCY: Bureau of Industry and Security (BIS), Commerce.

ACTION: Final rule.

SUMMARY: This rule revises the Defense Priorities and Allocations System to allow a person rejecting a rated order to give his or her reasons for the rejection through electronic means rather than requiring a person to submit the rationale in writing.

DATES: This rule is effective April 6, 2005.

FOR FURTHER INFORMATION CONTACT: Mr. Eddy Aparicio, Office of Strategic Industries and Economic Security, Room 3876, 14th Street and Constitution Avenue, NW., Washington, DC 20230, telephone; (202) 482-8234, or e-mail; eaparici@bis.doc.gov.

SUPPLEMENTARY INFORMATION: Under Title I of the Defense Production Act of 1950, as amended, (50 U.S.C. App. 2061 et seq.), the President is authorized to require preferential acceptance and performance of contracts or orders supporting certain approved national defense and energy programs, and to allocate materials, services, and facilities in such a manner as to promote these approved programs. Additional priorities authority is found in section 18 of the Selective Service Act of 1948 (50 U.S.C. App. 468), 10 U.S.C. 2538, and 50 U.S.C. 82. DPAS authority has also been extended to support emergency preparedness activities under Title VI of the Robert T. Stafford Disaster Relief and Emergency Assistance Act, as amended (45 U.S.C. 5915 et seq.).

Originally published in 1984, the DPAS regulations were revised on June 11, 1998 (63 FR 31918), to update, streamline, and clarify a number of provisions. The purpose of the DPAS is to assure the timely availability of industrial resources to meet current national defense and emergency preparedness program requirements, including critical infrastructure protection and restoration, as well as provide an operating system to support rapid industrial response in a national emergency. In pursuit of the DPAS mission, the Department of Commerce endeavors to minimize disruptions to the normal commercial activities of industry.

An integral component of DPAS is a system of “rated orders.” Prior to the effective date of this rule, recipients of rated orders who rejected such orders were required to furnish the reasons for rejection in writing and not electronically. This rule provides that such reasons may be furnished either in writing or electronically.

BIS published a notice of proposed rulemaking in the Federal Register on November 22, 2004 (69 FR 67872) that proposed to make electronic furnishing of the reasons for rejection permissible. BIS received one comment on the proposed rule, which favored the proposal. Therefore BIS is publishing the final rule exactly as stated in the proposed rule. Under this final rule a person will be able to transmit his or her rationale for rejection either electronically or in writing. This amendment to the DPAS regulations should allow this information to be transmitted more quickly.

Rulemaking Requirements

1. Executive Order 12866: This rule has been determined to be not significant under EO 12866.

2. Executive Order 13132: This rule does not contain policies with federalism implications as this term is defined in EO 13132.

3. Paperwork Reduction Act: This rule contains collection of information requirements subject to the Paperwork Reduction Act of 1995 (44 U.S.C. 3501 et seq.) (PRA).

Notwithstanding any other provision of law, no person is required to respond to, nor shall any person be subject to a penalty for failure to comply with a collection of information, subject to the requirements of the PRA unless that collection of information displays a currently valid Office of Management and Budget (OMB) control number. These collections have been approved by the OMB under control number 0694-0092, “Procedures for Acceptance or Rejection of a Rated Order,” which carries a burden hour estimate of 1 to 15 minutes per response. This rule results in an overall reduction of approximately five minutes for the one percent of respondents who reject rated orders they receive.

4. Regulatory Flexibility Act: Chief Counsel for Regulation of the Department of Commerce has certified to the Counsel for Advocacy of the Small Business Administration that this rule would not have a significant economic impact on a substantial number of small entities (i.e., companies or other organizations involved in production for the U.S. defense industrial base). The factual basis for this determination was published with the proposal rule and is not repeated here. No comments were received regarding the economic impact of this rule. As a result, no final regulatory flexibility analysis was prepared.

List of Subjects in 15 CFR Part 700

Administrative practice and procedure, Business and industry, Government contracts, National defense, Reporting and recordkeeping requirements, Strategic and critical materials.

Accordingly, the DPAS regulations (15 CFR part 700) are amended as follows:

PART 700—[AMENDED]

1. The authority citation for part 700 is revised to read as follows:

Authority: Titles I and VII of the Defense Production Act of 1950, as amended (50 U.S.C. App. 2061, et seq.), Title VI of the Robert T. Stafford Disaster Relief and Emergency Assistance Act (42 U.S.C. 5195 et seq.), Executive Order 12919, 59 FR 29525, 3 CFR, 1994 Comp. 901, and Executive Order 13286, 68 FR 10619, 3 CFR, 2003 Comp. 166; section 18 of the Selective Service Act of 1948 (50 U.S.C. App. 468), 10 U.S.C. 2538, 50 U.S.C. 82, and Executive Order 12742, 56 FR 1079, 3 CFR, 1991 Comp. 309; and Executive Order 12656, 53 FR 226, 3 CFR, 1988 Comp. 585.

2. In § 700.13, revise paragraph (d)(1) to read as follows:

§ 700.13 Acceptance and rejection of rated orders.

* * * * *

(d) Customer notification requirements. (1) A person must accept or reject a rated order and transmit the acceptance or rejection in writing (hard copy), or in electronic format, within fifteen (15) working days after receipt of a DO rated order and within ten (10) working days after receipt of a DX rated order. If the order is rejected, the person must also provide the reasons for the rejection, pursuant to paragraphs (b) and (c) of this section, in writing (hard copy) or electronic format.

* * * * *

Dated: March 1, 2005.
Matthew S. Borman,
Deputy Assistant Secretary for Export Administration.

[FR Doc. 05-4326 Filed 3-4-05; 8:45 am]

BILLING CODE 3510-33-P